GENERAL SERVICES ADMINISTRATION

Use of Voluntary Consensus Standards in Personal Property Management; Notice of GSA Bulletin FMR B-18

AGENCY: Office of Governmentwide Policy, General Services Administration (GSA).

ACTION: Notice of a bulletin.

SUMMARY: This notice announces GSA Federal Management Regulation (FMR) Bulletin B-18 which provides guidance to Federal agencies on the use of voluntary consensus standards in managing the personal property assets under their control. This bulletin is discretionary to executive agencies. GSA Bulletin FMR B-18 may be found at www.gsa.gov/fmrbulletin.

DATES: The bulletin announced in this notice is effective July 17, 2008.

FOR FURTHER INFORMATION CONTACT For clarification of content, contact General Services Administration, Office of Governmentwide Policy, Office of Travel, Transportation and Asset Management, at (202) 501-1777. Please cite Bulletin FMR B-18.

SUPPLEMENTARY INFORMATION:

A. Background

Public Law 104-113, the “National Technology Transfer and Advancement Act of 1995,” was enacted, in part, to encourage the use of voluntary consensus technical standards in lieu of government-unique standards by Federal agencies except when inconsistent with applicable law or otherwise impractical. The Office of Management and Budget (OMB) has issued OMB Circular A-119 to provide additional guidance. Subsequently, the National Property Management Association (NPMA) and the American Society for Testing and Materials (ASTM), now ASTM International, entered into an agreement to develop voluntary consensus standards for property management activities. Voluntary consensus standards are a valuable tool for the personal property manager as they represent the collective wisdom of Federal and private sector experts covering topics not addressed in law or governmentwide regulations. This bulletin is discretionary to executive agencies.

This notice announces GSA Bulletin FMR B-18 which provides guidance to Federal agencies on the use of voluntary consensus standards in managing the personal property assets under their control.

B. Procedures

Bulletins regarding asset management are located on the Internet at www.gsa.gov/fmrbulletin as Federal Management Regulation (FMR) bulletins.

Dated: July 21, 2008.
Robert Holcombe,
Director, Personal Property Management Policy.

[FR Doc. E8-17184 Filed 7-25-08; 8:45 am]

BILLING CODE 6820-14-S